DEPARTMENT OF ENERGY

Federal Energy Regulatory Commission

[Docket No. CP02-115-000]

Mississippi River Transmission Corporation; Notice of Application for Construction Authorization

March 22, 2002.

On March 15, 2002, Mississippi River Transmission Corporation (MRT), 1111 Louisiana Street, Houston, Texas 77002, filed an application in Docket No. CP02-115-000 pursuant to Section 7(c) of the Natural Gas Act (NGA) and part 157 of the Federal Energy Regulatory Commission's (Commission) Regulations thereunder, an application for any and all construction authority required by MRT to drill, own and operate two vertical storage wells, located in the State of Louisiana. Copies of this filing are on file with the Commission and are available for public inspection. This filing may be viewed on the web at http://www.ferc.gov using the “RIMS” link, select “Docket #” and follow the instructions (call (202)208-2222 for assistance).

Any questions regarding this application should be directed to Cyril J. Zebot, Vice President, Financial Analysis/Market Development Analysis, Mississippi River Transmission Corporation, P. O. Box 4455, Houston, Texas 77210, at (713) 207-5163 or Lawrence O. Thomas, Director-Rates & Regulatory, at (713) 429-2804.

Specifically, MRT proposes to construct two vertical storage wells in its East Unionville Storage Field located in Lincoln Parish, Louisiana for the purpose of maintaining and restoring late season deliverability for MRT's customers.¹ MRT states that this application is submitted pursuant to the terms of the Uncontested Stipulation and Agreement (Agreement) in Docket No. RP01-292-000, et. al., and TM00-1-25-000, et. al., approved by the Commission on January 16, 2002. MRT states that in accordance with the terms of the Agreement, MRT does not request rolled-in rate treatment for the costs associated with the construction of the proposed facilities, which will be recorded and maintained in a separate account to be excluded from future rate base treatment. MRT states that granting this certificate application will not impact the transportation/storage rates of MRT's customers. Total construction costs are estimated to be approximately $2.3 million.

¹ In addition, MRT plans to construct two 6-inch gas storage field flow lines approximately 2,200 feet each in length to connect the proposed wells to an existing central meter facility in the East Unionville Storage Field. MRT states that the flow lines will be constructed and connected pursuant to MRT's blanket certificate authorized pursuant to Docket No. CP82-389 (20 FERC ¶ 62,579).

There are two ways to become involved in the Commission's review of this abandonment. First, any person wishing to obtain legal status by becoming a party to the proceedings for this abandonment should, on or before April 12, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this abandonment. The Commission will consider these comments in determining the appropriate action to be taken, but the filing of a comment alone will not serve to make the filer a party to the proceeding. The Commission's rules require that persons filing comments in opposition to the abandonment provide copies of their protests only to the party or parties directly involved in the protest.

Persons who wish to comment only on the environmental review of this abandonment should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying abandonment will be issued.

Linwood A. Watson, Jr.,
Deputy Secretary.

[FR Doc. 02-7446 Filed 3-27-02; 8:45 am]

BILLING CODE 6717-01-P